DEPARTMENT OF ENERGY

Federal Energy Regulatory Commission

Combined Notice of Filings # 1

May 16, 2006.

Take notice that the Commission received the following electric rate filings.

Docket Numbers: ER06-823-001.

Applicants: Westar Energy, Inc.

Description: Westar Energy, Inc submits its First Revised Sheet 4, Rate Schedule 233 with the City of Robinson, Kansas.

Filed Date: May 8, 2006.

Accession Number: 20060515-0076.

Comment Date: 5 p.m. Eastern Time on Tuesday, May 30, 2006.

Docket Numbers: ER06-834-001.

Applicants: Michigan Electric Transmission Company, LLC.

Description: Michigan Electric Transmission Co, LLC submits a revised cover page requested by FERC staff to allow cancellation to become effective March 7, 2005.

Filed Date: May 4, 2006.

Accession Number: 20060515-0008.

Comment Date: 5 p.m. Eastern Time on Thursday, May 25, 2006.

Docket Numbers: ER06-838-001.

Applicants: American Electric Power Service Corporation.

Description: American Electric Power Service Corp submits corrected sheets, Sub First Revised Sheet Nos. 0, 25, and 36, Third Revised Volume No. 6, to its April 6, 2006 filing.

Filed Date: May 5, 2006.

Accession Number: 20060515-0007.

Comment Date: 5 p.m. Eastern Time on Friday, May 26, 2006.

Docket Numbers: ER06-903-001.

Applicants: Alcoa Power Generating Inc.

Description: Alcoa Power Generating Inc submits a correction to its April 24, 2006 filing, First Revised FERC Electric Rate Schedule No. 12.

Filed Date: May 8, 2006.

Accession Number: 20060515-0009.

Comment Date: 5 p.m. Eastern Time on Tuesday, May 30, 2006.

Docket Numbers: ER06-958-000.

Applicants: North American Energy, LLC.

Description: North American Energy LLC submits a notice of cancellation for its FERC Electric Rate Schedule, Original Volume No. 1.

Filed Date: May 9, 2006.

Accession Number: 20060511-0258.

Comment Date: 5 p.m. Eastern Time on Tuesday, May 30, 2006.

Docket Numbers: ER06-959-000.

Applicants: Vermont Electric Cooperative, Inc.

Description: Vermont Electric Cooperative Inc informs FERC that it is an electric cooperative affected by the amendment to section 201(f) of the Federal Power Act, and withdraws certain rate schedules and tariffs.

Filed Date: May 4, 2006.

Accession Number: 20060515-0011.

Comment Date: 5 p.m. Eastern Time on Thursday, May 25, 2006.

Docket Numbers: ER06-960-000.

Applicants: People's Electric Cooperation.

Description: People's Electric Cooperation informs FERC that it is an electric cooperative affected by the amendment to section 201(f) of the Federal Power Act, and as a result withdraws its First Revised Rate Schedule No. 1.

Filed Date: May 5, 2006.

Accession Number: 20060515-0012.

Comment Date: 5 p.m. Eastern Time on Friday, May 26, 2006.

Docket Numbers: ER06-961-000.

Applicants: People's Electric Cooperative.

Description: People's Electric Cooperative informs FERC that it is an electric cooperative affected by the amendment to section 201(f) of the Federal Power Act and, to the extent necessary, cancels its jurisdictional rate schedule.

Filed Date: May 5, 2006.

Accession Number: 20060515-0013.

Comment Date: 5 p.m. Eastern Time on Friday, May 26, 2006.

Docket Numbers: ER06-962-000.

Applicants: Vermont Electric Cooperative, Inc.

Description: Vermont Electric Cooperative, Inc submits its 2006 transmission formula rate update to local service.

Filed Date: May 5, 2006.

Accession Number: 20060515-0014.

Comment Date: 5 p.m. Eastern Time on Friday, May 26, 2006.

Docket Numbers: ER06-963-000.

Applicants: Central Maine Power Company.

Description: Central Maine Power Co requests FERC's approval of a proposed accounting treatment of certain RTO formation costs.

Filed Date: May 5, 2006.

Accession Number: 20060515-0010.

Comment Date: 5 p.m. Eastern Time on Friday, May 26, 2006.

Docket Numbers: ER06-966-000.

Applicants: MidAmerican Energy Company.

Description: MidAmerican Energy Co submits its proposed Large Generator Interconnection Agreement with Pomeroy Wind Farm, LLC, Original Service Agreement No. 278.

Filed Date: May 9, 2006.

Accession Number: 20060515-0017.

Comment Date: 5 p.m. Eastern Time on Tuesday, May 30, 2006.

Docket Numbers: ER06-967-000.

Applicants: The Cincinnati Gas & Electric Company.

Description: The Cincinnati Gas & Electric Co d/b/a Duke Energy Ohio, Inc. submits a notice of succession, effective April 10, 2006 in reference to tariff for reactive supply service to MISO, and rate schedule for Wabash Valley Power Association.

Filed Date: May 8, 2006.

Accession Number: 20060515-0005.

Comment Date: 5 p.m. Eastern Time on Tuesday, May 30, 2006.

Docket Numbers: ER06-968-000.

Applicants: The Cincinnati Gas & Electric Company.

Description: The Cincinnati Gas & Electric Co d/b/a Duke Energy Ohio, Inc submits a notice of succession, effective April 10, 2006, in reference to tariff for reactive supply service to PJM Interconnection, LLC, and rate schedule for emergency redispatch service to ComEd.

Filed Date: May 8, 2006.

Accession Number: 20060515-0001.

Comment Date: 5 p.m. Eastern Time on Tuesday, May 30, 2006.

Docket Numbers: ER06-969-000.

Applicants: BP West Coast Products LLC.

Description: BP West Coast Products, LLC submits proposed revisions to its market-based rate tariff designated as FERC Electric Tariff Second Revised Volume 1.

Filed Date: May 8, 2006.

Accession Number: 20060515-0077.

Comment Date: 5 p.m. Eastern Time on Tuesday, May 30, 2006.

Docket Numbers: ER06-970-000.

Applicants: American Electric Power Service Corporation.

Description: American Electric Power Service Corp submits an amendment to Part IV of the OATT, FERC Electric Tariff, Third Revised Volume 6.

Filed Date: May 8, 2006.

Accession Number: 20060515-0081.

Comment Date: 5 p.m. Eastern Time on Tuesday, May 30, 2006.

Docket Numbers: ER06-971-000.

Applicants: Exelon Business Services Company; Exelon Edgar LLC.

Description: Exelon Business Services Co on behalf of its affiliate Exelon Edgar LLC submits a notice of cancellation of market-based rate wholesale power sales tariff, Seventh Revised Volume No. 1.

Filed Date: May 8, 2006.

Accession Number: 20060515-0016.

Comment Date: 5 p.m. Eastern Time on Tuesday, May 30, 2006.

Docket Numbers: ER06-972-000.

Applicants: Thornwood Management Company, LLC.

Description: Thornwood Management Co LLC submits a petition for acceptance of initial tariff, waivers and blanket authority and requests acceptance of Rate Schedule FERC 1.

Filed Date: May 8, 2006.

Accession Number: 20060515-0080.

Comment Date: 5 p.m. Eastern Time on Tuesday, May 30, 2006.

Docket Numbers: ER06-973-000.

Applicants: West Penn Power Company; Monongahela Power Company; The Potomac Edison Company.

Description: Applicants submit a notice of cancellation of a Power Supply Agreement with Baltimore Gas & Electric Company, Rate Schedule Nos. 41, et al.

Filed Date: May 8, 2006.

Accession Number: 20060515-0079.

Comment Date: 5 p.m. Eastern Time on Tuesday, May 30, 2006.

Docket Numbers: ER06-975-000.

Applicants: Aquila Piatt County Power, LLC.

Description: Aquila Merchant Service, Inc on behalf of Aquila Piatt County Power, LLC submits its notice of cancellation of FERC Electric Tariff, Original Volume 1.

Filed Date: May 9, 2006.

Accession Number: 20060515-0006.

Comment Date: 5 p.m. Eastern Time on Tuesday, May 30, 2006.

Docket Numbers: ER06-976-000.

Applicants: West Penn Power Company; Monongahela Power Company; The Potomac Edison Company.

Description: Applicants submit a notice of cancellation of a Power Interchange and Resale Agreement with American Municipal Power-Ohio, Inc, Rate Schedule Nos. 49, et al.Filed Date: May 8, 2006.

Accession Number: 20060515-0074.

Comment Date: 5 p.m. Eastern Time on Tuesday, May 30, 2006.

Docket Numbers: ER06-977-000.

Applicants: West Penn Power Company; Monongahela Power Company; The Potomac Edison Company.

Description: Applicants submit a notice of cancellation of a Power Supply Agreement with Delmarva Power & Light Company, Rate Schedule Nos. 41, et al.

Filed Date: May 8, 2006.

Accession Number: 20060515-0073.

Comment Date: 5 p.m. Eastern Time on Tuesday, May 30, 2006.

Docket Numbers: ER06-978-000.

Applicants: West Penn Power Company; Monongahela Power Company; The Potomac Edison Company.

Description: Applicants submit a notice of cancellation of a Power Supply Agreement with Philadelphia Edison, Rate Schedule Nos. 44, et al.

Filed Date: May 8, 2006.

Accession Number: 20060515-0071.

Comment Date: 5 p.m. Eastern Time on Tuesday, May 30, 2006.

Docket Numbers: ER06-979-000.

Applicants: West Penn Power Company; Monongahela Power Company; The Potomac Edison Company.

Description: Applicants submit a notice of cancellation of a Transmission Agreement with Potomac Electric Power Company, Rate Schedule No 20.

Filed Date: May 8, 2006.

Accession Number: 20060515-0072.

Comment Date: 5 p.m. Eastern Time on Tuesday, May 30, 2006.

Docket Numbers: ER06-980-000.

Applicants: West Penn Power Company; Monongahela Power Company; The Potomac Edison Company.

Description: Applicants submit a notice of cancellation of a Power Supply Agreement with Public Service Electric & Gas Company, Rate Schedule Nos. 42, et al.

Filed Date: May 8, 2006.

Accession Number: 20060515-0078.

Comment Date: 5 p.m. Eastern Time on Tuesday, May 30, 2006.

Docket Numbers: ER06-981-000.

Applicants: West Penn Power Company; Monongahela Power Company; The Potomac Edison Company.

Description: Applicants submit a notice of cancellation of a Power Interchange and Resale Agreement with American Municipal Power-Ohio, Inc., Rate Schedule No. 49, et al.

Filed Date: May 8, 2006.

Accession Number: 20060515-0075.

Comment Date: 5 p.m. Eastern Time on Tuesday, May 30, 2006.

Docket Numbers: ER06-982-000.

Applicants: West Penn Power Company; Monongahela Power Company; The Potomac Edison Company.

Description: Applicants submit a notice of cancellation of a Power Supply Agreement with Pennsylvania Power & Light, Rate Schedule Nos. 43, et al.

Filed Date: May 8, 2006.

Accession Number: 20060515-0070.

Comment Date: 5 p.m. Eastern Time on Tuesday, May 30, 2006.

Docket Numbers: ER06-983-000.

Applicants: Southern California Edison Company.

Description: Southern California Edison Co submits an Interconnection Facilities Study Agreement with Stirling Energy System Solar One, LLC.

Filed Date: May 8, 2006.

Accession Number: 20060515-0082.

Comment Date: 5 p.m. Eastern Time on Tuesday, May 30, 2006.

Docket Numbers: ER06-984-000.

Applicants: New York State Electric & Gas Corporation.

Description: New York State Electric & Gas Corp submits notice of a change involving New York Power Authority Expansion Power delivered by NYSEG to certain customers.

Filed Date: May 8, 2006.

Accession Number: 20060515-0015.

Comment Date: 5 p.m. Eastern Time on Tuesday, May 30, 2006.

Docket Numbers: ER06-985-000.

Applicants: Valero Power Marketing LLC.

Description: Valero Power Marketing LLC submits its application for market-based rate authorization and request for waivers and blanket authorizations.

Filed Date: May 9, 2006.

Accession Number: 20060515-0084.

Comment Date: 5 p.m. Eastern Time on Tuesday, May 30, 2006.

Docket Numbers: ER06-986-000.

Applicants: Deseret Generation & Trans Co-operative., Inc.

Description: Deseret Generation & Transmission Co-operative, Inc submits its annual revisions for Schedule B-1 for Garkane Power Association, Inc. and Moon Lake Electric Association, Inc.

Filed Date: May 9, 2006.

Accession Number: 20060515-0002.

Comment Date: 5 p.m. Eastern Time on Tuesday, May 30, 2006.

Docket Numbers: ER06-987-000.

Applicants: HLM Energy LLC.

Description: HLM Energy LLC submits its petition for acceptance of initial rate schedule, Rate Schedule FERC No. 1, waivers and blanket authority.

Filed Date: May 9, 2006.

Accession Number: 20060515-0083.

Comment Date: 5 p.m. Eastern Time on Tuesday, May 30, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-7879 Filed 5-23-06; 8:45 am]

BILLING CODE 6717-01-P